DEPARTMENT OF COMMERCE

Submission for OMB Review; Comment Request

The Department of Commerce will submit to the Office of Management and Budget (OMB) for clearance the following proposal for collection of information under the provisions of the Paperwork Reduction Act (44 U.S.C. Chapter 35).

Agency: National Telecommunications and Information Administration (NTIA).

Title: Broadband Technology Opportunities Program (BTOP) Quarterly and Annual Performance Progress Reports.

OMB Control Number: 0660-0037.

Form Number(s): None.

Type of Request: Regular submission (extension of emergency revision request to a currently approved information collection).

Number of Respondents: 121 (Total requested: 231).

Average Hours per Response: Quarterly reports, 5 hours; and Annual reports, 4 hours.

Burden Hours: 719 (Total requested: 5,374).

Needs and Uses: The American Recovery and Reinvestment Act of 2009 (Recovery Act) appropriated funds for BTOP to support the deployment of broadband infrastructure, enhance and expand public computer centers, encourage sustainable adoption of broadband service, and develop and maintain a nationwide public map of broadband service capability and availability.

The Recovery Act mandates that funds distributed under its authority be subject to an unprecedented level of transparency and accountability. This includes an increased level of monitoring and oversight to ensure that Recovery Act funds are used for their authorized purposes; steps are in place to prevent waste, fraud or abuse; and BTOP projects avoid unnecessary delay and cost-overruns and meet targets and goals. In addition to increased levels of monitoring and oversight, BTOP projects must adhere to mandatory timelines requiring them to demonstrate that each project will be substantially completed within two years of the grant's issuance date. To enable NTIA to properly achieve these objectives and verify that BTOP projects are meeting established targets and goals within the mandated timeframes, NTIA has developed and utilized Performance Progress Reports (PPRs) to capture quarterly and annual reports for each project type (Infrastructure, Public Computer Center, and Sustainable Broadband Adoption). Each PPR provides updates on fundamental project milestones and key performance indicators that allow NTIA to measure project progress and ensure proper monitoring and compliance with program rules.

Revision: NTIA reviewed PPRs, submitted on September 30, 2011, and assessed the individual responses provided by BTOP grant recipients and concluded that several key questions on the existing annual Infrastructure PPR needed to be clarified if NTIA was to receive the appropriate level of detail necessary to ensure BTOP projects are meeting established targets and goals within mandated timeframes. NTIA also requested updated mapping information in order to better monitor the current status and impact of broadband deployment in each of the funded project areas. The annual Infrastructure PPR was revised to capture more detailed information related to: Community Anchor Institutions; Points of Presence; and Network Maps. These revisions were submitted as an emergency request to OMB on November 1, 2011; and approval was granted for six months. This extension request is for the required three-year Paperwork Reduction Act approval.

Affected Public: Business or other for-profit organizations.

Frequency: Annually.

Respondent's Obligation: Mandatory.

OMB Desk Officer: Nicholas Fraser, (202) 395-5887.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of the publication of this notice to Nicholas Fraser, OMB Desk Officer, Fax number (202) 395-7285, or via the Internet at Nicholas_A._Fraser@omb.eop.gov.

Dated: May 16, 2012.
Gwellnar Banks,
Management Analyst, Office of the Chief Information Officer.

[FR Doc. 2012-12227 Filed 5-18-12; 8:45 am]

BILLING CODE 3510-06-P